DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Chesapeake Bay Maryland National Estuarine Research Reserve.

SUMMARY: Notice is hereby given that the Estuarine Reserves Division, Office of Ocean and Coastal Resource Management, National Ocean Service, National Oceanic and Atmospheric Administration (NOAA), U.S. Department of Commerce is announcing a thirty-day public comment period on the Chesapeake Bay Maryland National Estuarine Research Reserve Management Plan Revision.

The Chesapeake Bay Maryland National Estuarine Research Reserve has three sites; Monie Bay, Jug Bay, and Otter Point Creek. Monie Bay was designated as part of the National Estuarine Research Reserve in 1985 and Jug Bay and Otter Point Creek were designated in 1990 pursuant to Section 315 of the Coastal Zone Management Act of 1972, as amended, 16 U.S.C. 1461. The reserve has been operating under a management plan approved in 1990. Pursuant to 15 CFR Section 921.33(c), a state must revise their management plan every five years. The submission of this plan brings the reserve into compliance and sets a course for successful implementation of the goals and objectives of the reserve. A boundary expansion, new facilities, and updated programmatic objectives are notable revisions to the 1990 approved management plan.

The revised management plan outlines the administrative structure; the education, stewardship, and research goals of the reserve; and the plans for future land acquisition and facility development to support reserve operations. Since 1990, the reserve has added a coastal training program that delivers science-based information to key decisionmakers in the Chesapeake Bay. The reserve has realized many aspects of the 1990 plan, including the completion of the Anita C. Leight Center in Harford County. This facility provides classrooms, lab space, exhibit space and office space and has allowed the implementation of research, education and volunteer activity at the Otter Point Creek component of the reserve.

This management plan calls for a boundary expansion at two reserve sites: One thousand three hundred and forty-five acres are incorporated into the Jug Bay component site and approximately thirty-two acres will be incorporated into the Otter Point Creek site. The Otter Point Creek component will expand its land area from 443 to 475 acres. The land increase consists of two forested parcels adjacent to the current boundary that will serve as a buffer for core estuarine habitat and will also provide an important access point for monitoring and education programming. The expansion at Jug Bay includes land on both sides of the Patuxent River, increasing the acreage of this site from 491 to 1,836. The original boundary for this component site included a portion of the county owned parks. This expansion incorporates a larger portion of those parks to become designated as part of the National Estuarine Research Reserves. West of the Patuxent River, the reserve will add 455 acres of wetlands and buffer lands that will enhance the protection of core reserve lands and will enhance the research and monitoring. East of the Patuxent River, the reserve will be expanded by 890 acres to increase the level of protection surrounding the river and expand the area available for reserve programming.

FOR FURTHER INFORMATION CONTACT: Michael Migliori at (301) 563-1126 or Laurie McGilvray at (301) 563-1158 of NOAA's National Ocean Service, Estuarine Reserves Division, 1305 East-West Highway, N/ORM5, 10th floor, Silver Spring, MD 20910. For copies of the Chesapeake Bay Management Plan revision, visit http://www.dnr.state.md.us/bay/cbnerr/.

Dated: April 10, 2008.
David M. Kennedy,
Director, Office of Ocean and Coastal Resource Management, National Oceanic and Atmospheric Administration.

[FR Doc. E8-8345 Filed 4-17-08; 8:45 am]

BILLING CODE 3510-22-P